DEPARTMENT OF AGRICULTURE

Animal and Plant Health Inspection Service

7 CFR Part 301

[Docket No. 00-110-4]

West Indian Fruit Fly

AGENCY: Animal and Plant Health Inspection Service, USDA.

ACTION: Affirmation of interim rules as final rule.

SUMMARY: We are adopting as a final rule, without change, two interim rules regarding West Indian fruit fly. The first interim rule established regulations restricting the movement of regulated articles from a newly established quarantined area in Cameron County, TX. The second interim rule removed the quarantine on that portion of Cameron County, TX, and thus removed the restrictions on the interstate movement of regulated articles from that area. The first interim rule was necessary to prevent the spread of West Indian fruit fly to noninfested areas of the United States, and the second interim rule was necessary to reflect our determination that the West Indian fruit fly had been eradicated from Cameron County, TX.

EFFECTIVE DATE: The first interim rule, as corrected, became effective on January 12, 2001; and the second interim rule became effective June 1, 2001.

FOR FURTHER INFORMATION CONTACT: Mr. Robert Spaide, Director for Surveillance and Emergency Programs Planning and Coordination, PPQ, APHIS, 4700 River Road Unit 134, Riverdale, MD 20737-1236; (301) 734-8247.

SUPPLEMENTARY INFORMATION:

Background

In an interim rule effective January 12, 2001, and published in the Federal Register on January 22, 2001 (66 FR 6429-6436, Docket No. 00-110-1), we amended the Domestic Quarantine Notices in 7 CFR part 301 by adding a new “Subpart—West Indian Fruit Fly” (7 CFR 301.98 through 301.98-10, referred to below as the regulations). The regulations designated a portion of Cameron County, TX, as a quarantined area because of an infestation of West Indian fruit fly and restricted the interstate movement of regulated articles from the quarantined area. In a document published in the Federal Register on April 20, 2001 (66 FR 20186, Docket No. 00-110-2), we corrected the definition for Day degrees in § 301.98-1 to rectify an error in the day degrees formula provided in that definition. In a second interim rule effective on June 1, 2001, and published in the Federal Register on June 25, 2001 (66 FR 33631-33632, Docket No. 00-110-3), we amended the regulations by removing the quarantine on a portion of Cameron County, TX, and removing restrictions on the interstate movement of regulated articles from that area based on our determination that the West Indian fruit fly had been eradicated from that area. Upon the effective date of our June 2001 interim rule, there were no longer any areas in the continental United States quarantined for the West Indian fruit fly.

Comments on each interim rule were required to be received on or before 60 days after the date of its publication in the Federal Register. We did not receive any comments on either of the interim rules. Therefore, for the reasons given in the interim rules, we are adopting the interim rules as a final rule.

This action also affirms the information contained in the interim rules concerning Executive Order 12866 and the Regulatory Flexibility Act, Executive Orders 12372 and 12988, and the Paperwork Reduction Act.

Further, for this action, the Office of Management and Budget has waived the review process required by Executive Order 12866.

List of Subjects in 7 CFR Part 301

Agricultural commodities, Plant diseases and pests, Quarantine, Reporting and recordkeeping requirements, Transportation.

PART 301 DOMESTIC QUARANTINE NOTICES

Accordingly, we are adopting as a final rule, without change, the interim rule establishing “Subpart—West Indian Fruit Fly” (7 CFR 301.98 through 301.98-10) that was published at 66 FR 6429-6436 on January 22, 2001, as corrected by the document published at 66 FR 20186 on April 20, 2001, and as amended by the interim rule published at 66 FR 33631-33632 on June 25, 2001.

Authority: 7 U.S.C. 166, 7711, 7712, 7714, 7731, 7735, 7751, 7752, 7753, and 7754; 7 CFR 2.22, 2.80, and 371.3.

Section 301.75-15 also issued under Sec. 204, Title II, Pub. L. 106-113, 113 Stat. 1501A-293; sections 301.75-15 and 301.75-16 also issued under Sec. 203, Title II, Pub. L. 106-224, 114 Stat. 400 (7 U.S.C. 1421 note).

Done in Washington, DC, this 14th day of February 2002.
W. Ron DeHaven,
Acting Administrator, Animal and Plant Health Inspection Service.

[FR Doc. 02-4175 Filed 2-20-02; 8:45 am]

BILLING CODE 3410-34-P